DEPARTMENT OF COMMERCE

National Oceanic and Atmospheric Administration

[I.D. 042803K]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Management Team (CPSMT) and Coastal Pelagic Species Advisory Subpanel (CPSAS) will hold work sessions, which are open to the public.

DATES: The CPSMT will meet Wednesday, May 21, 2003 from 8 a.m. to 12 noon. The CPSAS will meet Wednesday, May 21, 2003 from 1 p.m. until business for the day is completed.

ADDRESSES: The meetings will be held at NMFS Southwest Region, Large Conference Room, 501 West Ocean Blvd., Suite 4200, Long Beach, CA 90802; telephone: (562) 980-4000.

Council address: Pacific Fishery Management Council, 7700 NE Ambassador Place, Suite 200, Portland, OR 97220-1384.

FOR FURTHER INFORMATION CONTACT: Mr. Dan Waldeck, Pacific Fishery Management Council; (503) 820-2280.

SUPPLEMENTARY INFORMATION: The primary purpose of these work sessions is to review the current Pacific mackerel stock assessment and develop harvest guideline and seasonal structure recommendations for the 2003-04 fishery. The 2003 CPS stock assessment and fishery evaluation (SAFE) document might also be discussed.

Although nonemergency issues not contained in the CPSMT and CPSAS meeting agenda may come before the CPSMT and CPSAS for discussion, those issues may not be the subject of formal action during this meeting. Action will be restricted to those issues specifically listed in this document and any issues arising after publication of this document that require emergency action under section 305(c) of the Magnuson-Stevens Fishery Conservation and Management Act, provided the public has been notified of the CPSMT's or CPSAS's intent to take final action to address the emergency.

Special Accommodations

The meeting is physically accessible to people with disabilities. Requests for sign language interpretation or other auxiliary aids should be directed to Ms. Carolyn Porter at (503) 820-2280 at least 5 days prior to the meeting date.

Dated: April 29, 2003.
Matteo J. Milazzo,
Acting Director, Office of Sustainable Fisheries, National Marine Fisheries Service.

[FR Doc. 03-11060 Filed 5-2-03; 8:45 am]

BILLING CODE 3510-22-S